DEPARTMENT OF COMMERCE

International Trade Administration

[A-533-843]

Certain Lined Paper Products From India: Notice of Partial Rescission and Preliminary Results of Antidumping Duty Administrative Review; 2012-2013

AGENCY: Enforcement and Compliance, International Trade Administration, U.S. Department of Commerce.

SUMMARY: The Department of Commerce (the Department) is conducting an administrative review of the antidumping duty order on certain lined paper products (CLPP) from India.¹ The period of review (POR) is September 1, 2012, through August 31, 2013, and the review was initiated with respect to nine companies.² We are rescinding the review with respect to seven companies for which review requests were timely withdrawn.³

¹ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (CLPP Order).

² The nine companies include: Ampoules & Vials Manufacturing Co. Ltd. (Ampoules & Vials); A.R. Printing & Packaging (India) Pvt. Ltd. (AR Printing); Pioneer Stationery Pvt. Ltd. (Pioneer); Premier Exports (Premier); Marisa International (Marisa); Navneet Publications (India) Ltd.(Navneet); Riddhi Enterprises (Riddhi); SGM Paper Products (SGM); and Super Impex.

³ The seven companies include: Ampoules & Vials; Pioneer; Premier; Marisa; Navneet; Riddhi; and SGM.

We preliminarily determine that AR Printing had no sales of subject merchandise to the United States during the POR. In addition, we preliminarily find that during the POR, Super Impex made sales of subject merchandise at less than normal value (NV). Interested parties are invited to comment on these preliminary results.

DATES: Effective Date: October 7, 2014.

FOR FURTHER INFORMATION CONTACT: Cindy Robinson or Eric Greynolds, AD/CVD Operations, Office III, Enforcement and Compliance, International Trade Administration, U.S. Department of Commerce, 14th Street and Constitution Avenue NW., Washington, DC 20230; telephone (202) 482-3797 or (202) 482-6071, respectively.

SUPPLEMENTARY INFORMATION:

Scope of the Order

The merchandise covered by the CLPP Order is certain lined paper products. The merchandise subject to this order is currently classified under the following Harmonized Tariff Schedule of the United States (HTSUS) subheadings: 4811.90.9035, 4811.90.9080, 4820.30.0040, 4810.22.5044, 4811.90.9050, 4811.90.9090, 4820.10.2010, 4820.10.2020, 4820.10.2030, 4820.10.2040, 4820.10.2050, 4820.10.2060, and 4820.10.4000. Although the HTSUS numbers are provided for convenience and customs purposes, the written product description remains dispositive.⁴

⁴ For a complete description of the Scope of the Order, see Preliminary Decision Memorandum.

Partial Rescission of the 2012-2013 Administrative Review

Between November 18, 2013, and February 6, 2014, the following seven companies timely withdrew their requests for administrative review: Ampoules & Vials, Marisa, Navneet, Pioneer, Premier, Riddhi, and SGM. Except for Navneet, no other interested party requested a review of the aforementioned companies. Petitioners submitted requests for review with respect to the following two companies: Navneet and AR Printing.⁵ On January 31 and February 6, 2014, Petitioners timely withdrew its review request for Navneet.⁶ Thus, in accordance with 19 CFR 351.213(d)(1) ⁷ and consistent with our practice,⁸ we are rescinding this review with respect to these seven companies.

⁵ See Petitioners' letter dated September 30, 2013.

⁶ Petitioners also submitted a withdrawal of review request with respect to Pioneer, but because Petitioners had not submitted a review request for Pioneer, we were unable to act on Petitioners' request. However, because Pioneer self-requested a review, and later timely withdrew its own review request, we were able to rescind the review with respect to Pioneer.

⁷ Pursuant to 19 CFR 351.213(d)(1), the Department will rescind an administrative review “if a party that requested a review withdraws the request within 90 days of the date of publication of notice of initiation of the requested review.” The instant review was initiated on October 31, 2012. Therefore, the deadline to withdraw review requests was February 6, 2014. Thus, Petitioners' withdrawal requests are timely.

⁸ See, e.g., Brass Sheet and Strip from Germany: Notice of Rescission of Antidumping Duty Administrative Review, 73 FR 49170 (August 20, 2008); see also Certain Lined Paper Products from India: Notice of Partial Rescission of Antidumping Duty Administrative Review and Extension of Time Limit for the Preliminary Results of Antidumping Duty Administrative Review, 74 FR 21781 (May 11, 2009).

No Shipment Claim by AR Printing

At the outset of this proceeding, AR Printing stated in its quantity and value questionnaire (Q&V) response, that it “had no shipments of Certain Lined Paper Products during the POR.” ⁹ On April 10, 2014, we sent a confirmation of non-shipment inquiry to U.S. Customs and Border Protection (CBP) as a means of confirming AR Printing's claim of non-shipment.¹⁰ We did not receive any contradictory information from CBP. Based on AR Printing's assertion of no shipments and no information to the contrary from CBP, we preliminarily determine that AR Printing had no shipments to the United States during the POR.

⁹ See AR Printing's December 2, 2013, Q&V response at 2.

¹⁰ See Memorandum to the File from Eric B. Greynolds, Program Manager, titled “Status of AR Printing & Packaging (India) Pvt. Ltd.”, dated April 7, 2014. CBP returned message no. 4100306 dated April 10, 2014, regarding “No shipments inquiry for certain lined paper products from India exported by A.R. Printing & Packaging (India) Pvt. Ltd. (A-533-843).”

See the Assessment Rates section of this notice below.

Methodology

The Department is conducting this review in accordance with section 751(a)(2) of the Tariff Act of 1930, as amended (the Act). Export prices (EP) have been calculated in accordance with section 772 of the Act.

Super Impex reported that it made no sales to the home market.¹¹ Super Impex's responses indicate that its sales to third countries also were not viable,¹² within the meaning of section 773(a)(1)(C)(i) of the Act.¹³ Therefore, for these preliminary results, we relied on constructed value (CV) as the basis for calculating NV, in accordance with section 773(a)(4) of the Act.

¹¹ See Super Impex's Section A Questionnaire Response, February 26, 2014, at A-3.

¹² Id.

¹³ See Preliminary Decision Memorandum at 13.

Calculation of Normal Value Based on Constructed Value

For a full description of the methodology underlying our conclusions, see Preliminary Decision Memorandum at 14-15.

The Preliminary Decision Memorandum is a public document and is on file electronically via Enforcement and Compliance's Antidumping and Countervailing Duty Centralized Electronic Service System (IA ACCESS). IA ACCESS is available to registered users at http://iaaccess.trade.gov and in the Central Records Unit (CRU), room 7046 of the main Department of Commerce building. In addition, a complete version of the Preliminary Decision Memorandum can be accessed directly on the Internet at http://enforcement.trade.gov/frn/index.html. The signed Preliminary Decision Memorandum and the electronic version of the Preliminary Decision Memorandum are identical in content.

Preliminary Results of the Review

As a result of this review, the Department determines that the weighted-average dumping margin for the POR is as follows:

Producer/exporter | Weighted- average dumping margin (percent)
Super Impex | 7.79

Assessment Rate

Upon issuance of the final results, the Department shall determine, and CBP shall assess, antidumping duties on all appropriate entries covered by this review. For any individually examined respondents whose weighted-average dumping margin is above de minimis, we will calculate importer-specific ad valorem duty assessment rates based on the ratio of the total amount of dumping calculated for the importer's examined sales to the total entered value of those same sales in accordance with 19 CFR 351.212(b)(1).¹⁴ We will instruct CBP to assess antidumping duties on all appropriate entries covered by this review when the importer-specific assessment rate calculated in the final results of this review is above de minimis (i.e., 0.50 percent). Where either the respondent's weighted-average dumping margin is zero or de minimis, or an importer-specific assessment rate is zero or de minimis, we will instruct CBP to liquidate the appropriate entries without regard to antidumping duties. The final results of this review shall be the basis for the assessment of antidumping duties on entries of merchandise covered by the final results of this review where applicable.

¹⁴ In these preliminary results, the Department applied the assessment rate calculation method adopted in Antidumping Proceedings: Calculation of the Weighted-Average Dumping Margin and Assessment Rate in Certain Antidumping Proceedings: Final Modification, 77 FR 8101 (February 14, 2012).

The Department clarified its “automatic assessment” regulation on May 6, 2003. This clarification will apply to entries of subject merchandise during the POR produced by each respondent for which they did not know that their merchandise was destined for the United States. In such instances, we will instruct CBP to liquidate unreviewed entries at the all-others rate if there is no rate for the intermediate company(ies) involved in the transaction.¹⁵

¹⁵ For a full discussion of this clarification, see Antidumping and Countervailing Duty Proceedings: Assessment of Antidumping Duties, 68 FR 23954 (May 6, 2003).

We intend to issue instructions to CBP 15 days after publication of the final results of this review.

Cash Deposit Requirements

The following cash deposit requirements will be effective upon publication of the notice of final results of administrative review for all shipments of subject merchandise entered, or withdrawn from warehouse, for consumption on or after the publication date of the final results of this administrative review, as provided by section 751(a)(2)(C) of the Act: (1) The cash deposit rate for Super Impex will be the rate established in the final results of this administrative review; (2) for merchandise exported by manufacturers or exporters not covered in this administrative review but covered in a prior segment of the proceeding, the cash deposit rate will continue to be the company-specific rate published for the most recent period; (3) if the exporter is not a firm covered in this review, a prior review, or the original investigation, but the manufacturer is, the cash deposit rate will be the rate established for the most recent period for the manufacturer of the merchandise; and (4) the cash deposit rate for all other manufacturers or exporters will continue to be 3.91 percent, the all-others rate established in the investigation.

Disclosure and Public Comment

The Department intends to disclose to interested parties to this proceeding the calculations performed in connection with these preliminary results within five days after the date of publication of this notice.¹⁶ Pursuant to 19 CFR 351.309(c), interested parties may submit cases briefs not later than 30 days after the date of publication of this notice. Rebuttal briefs, limited to issues raised in the case briefs, may be filed not later than five days after the date for filing case briefs.¹⁷ Parties who submit case briefs or rebuttal briefs in this proceeding are requested to submit with the argument: (1) A statement of the issue, (2) a brief summary of the argument, and (3) a table of authorities.¹⁸ All case and rebuttal briefs must be filed electronically using IA ACCESS, and must also be served on interested parties.¹⁹ An electronically filed document must be received successfully in its entirety by the Department's electronic records system, IA ACCESS, by 5:00 p.m. Eastern Standard Time within 30 days after the date of publication of this notice. Executive summaries should be limited to five pages total, including footnotes.

¹⁶ See 19 CFR 351.224(b).

¹⁷ See 19 CFR 351.309(d).

¹⁸ See 19 CFR 351.309(c)(2) and (d)(2).

¹⁹ See 19 CFR 351.303(f).

Interested parties who wish to request a hearing, or to participate if one is requested, must submit a written request to the Assistant Secretary for Enforcement and Compliance, U.S. Department of Commerce, using Enforcement and Compliance's IA ACCESS system within 30 days of publication of this notice.²⁰ Requests should contain the party's name, address, and telephone number, the number of participants, and a list of the issues to be discussed. If a request for a hearing is made, we will inform parties of the scheduled date for the hearing which will be held at the U.S. Department of Commerce, 14th Street and Constitution Avenue NW., Washington, DC 20230, at a time and location to be determined. Parties should confirm by telephone the date, time, and location of the hearing.

²⁰ See 19 CFR 351.310(c).

Unless the deadline is extended pursuant to section 751(a)(2)(B)(iv) of the Act and 19 CFR 351.213(h)(2), the Department intends to issue the final results of this administrative review, including the results of our analysis of the issues raised by the parties in their case and rebuttal briefs, within 120 days after the publication of these preliminary results, pursuant to section 751(a)(3)(A) of the Act and 19 CFR 351.213(h).

Notification to Importers

This notice serves as a preliminary reminder to importers of their responsibility under 19 CFR 351.402(f)(2) to file a certificate regarding the reimbursement of antidumping and/or countervailing duties prior to liquidation of the relevant entries during this review period. Failure to comply with this requirement could result in the Department's presumption that reimbursement of antidumping and/or countervailing duties occurred and the subsequent assessment of double antidumping duties.

These preliminary results of review are issued and published in accordance with sections 751(a)(1) and 777(i)(1) of the Act.

Dated: September 30, 2014.
Paul Piquado,
Assistant Secretary for Enforcement and Compliance.

Appendix

List of Topics Discussed in the Preliminary Decision Memorandum

1. Background

2. Scope of the Order

3. Partial Rescission of the 2012-2013 Administrative Review

4. No Shipment Claim by AR Printing

5. Discussion of Methodology

[FR Doc. 2014-23966 Filed 10-6-14; 8:45 am]

BILLING CODE 3510-DS-P